SMALL BUSINESS ADMINISTRATION

[Declaration of Disaster #3366]

Commonwealth of Virginia, (Amendment #1); Disaster Loan Areas

The above-numbered declaration is hereby amended to extend the deadline for filing applications for physical damages as a result of this disaster to September 30, 2002.

The deadline for filing applications for economic injury has also been amended to September 30, 2002. All other information remains the same.

(Catalog of Federal Domestic Assistance Program Nos. 59002 and 59008)

Dated: June 17, 2002.
Herbert L. Mitchell,
Associate Administrator for Disaster Assistance.

[FR Doc. 02-15816 Filed 6-21-02; 8:45 am]

BILLING CODE 8025-01-P